DEPARTMENT OF ENERGY

Federal Energy Regulatory Commission

Notice of Temporary Variance Request and Soliciting Comments, Motions To Intervene, and Protests

April 9, 2002.

Take notice that the following application has been filed with the Commission and is available for public inspection:

a. Application Type: Request to Amend Language of Article 42.

b. Project No: 2716-037.

c. Date Filed: March 1, 2002.

d. Applicant: Virginia Electric and Power Company.

e. Name of Project: Bath County Pumped Storage Station.

f. Location: The project is located on Back Creek and Little Back Creek in Bath County, Virginia.

g. Filed Pursuant to: 18 CFR 4.200.

h. Applicant Contacts: Ms. Sara S. Bell, Bath County Pumped Storage Station, HCR 1 Box 280, Warm Springs, VA 24484, phone (540) 279-3068 or Mr. James W. Thorton, Dominion Generation, 5000 Dominion Boulevard, Glen Allen, VA 23060, phone (804) 273-3257.

i. FERC Contact: Any questions on this notice should be addressed to Mr. Robert Fletcher at (202) 219-1206, or e-mail address: robert.fletcher@ferc.gov.

j. Deadline for filing comments and or motions: May 10, 2002.

All documents (original and seven copies) should be filed with: Magalie R. Salas, Secretary, Federal Energy Regulatory Commission, 888 First Street, NE., Washington DC 20426. Please include the project number (P-2716-037) on any comments or motions filed.

k. Description of Request: Article 42 states that, except as the Commission may otherwise order on its own motion or at the request of the Virginia State Water Control Board and the Virginia Department of Game and Inland Fisheries or the U.S. Fish and Wildlife Service, after notice and opportunity for hearing, the licensee is to release a combined minimum discharge of 15 cubic feet per second (cfs), including seepage flows, from the upper and lower reservoirs. The minimum discharge from the upper reservoir shall be 2 cfs and the minimum discharge from the lower reservoir shall be 10 cfs, including seepage flows in each case. However, the minimum discharges may be temporarily modified if they are limited by natural inflows and the depletion of conservation storage or if a modification is required by operating emergencies beyond the licensee's control.

The licensee proposes to change the language of article 42 to parallel the release strategy under its Virginia Department of Environmental Quality's Virginia Water Protection Permit. The proposed change would be as follows:

Article 42. Under normal operating conditions, with full conservation storage of 3,200 acre-feet, the licensee shall release a combined minimum daily average discharge from the upper and lower reservoirs of 15 cubic feet per second (cfs), including seepage flows. The minimum discharge from the upper reservoir will always be 2 cfs or greater and the minimum discharge from the lower reservoir will always be 10 cfs or greater, including seepage flows in each case.

When low inflow to the project reservoirs results in 50 percent or greater depletion of the 3,200 acre-feet of conservation storage, the licensee may reduce the releases to a daily average of 7.5 cfs from the lower reservoir (at no time to be below 6 cfs) and 2.0 cfs from the upper reservoir.

If conditions persist and the 3,200 acre-feet of conservation pool is depleted by 80 percent or greater, the daily average discharge from the lower reservoir may be reduced to 5.0 cfs (at no time to be below 4 cfs) and the discharge from the upper reservoir may be reduced to 1.5 cfs.

These requirements may also be temporarily modified if required by operating emergencies beyond the control of the licensee. If drought conditions deplete the entire 3,200 acre-feet of conservation pool, the licensee may, upon mutual agreement with the Virgina Department of Environmental Quality (VDEQ) and Virginia Department of Game and Inland Fisheries, and following public input as determined by the VDEQ, reduce flows further. If the flows are so modified, the licensee shall notify the Commission no later than ten days after each such incident.

l. Locations of the Application: A copy of the application is available for inspection and reproduction at the Commission's Public Reference Room, located at 888 First Street, NE, Room 2A, Washington, D.C. 20426, or by calling (202) 208-1371. This filing may also be viewed on the web at http://www.ferc.gov using the “RIMS” link, select “Docket#” and follow the instructions (call 202-208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application. o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application. p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's web site at http://www.ferc.gov under the “e-Filing” link.

Magalie R. Salas,
Secretary.

[FR Doc. 02-9027 Filed 4-12-02; 8:45 am]

BILLING CODE 6717-01-P